ENVIRONMENTAL PROTECTION AGENCY

40 CFR Part 52

[ID-00-001, ID-01-001; FRL-6957-2]

Approval and Promulgation of State Implementation Plans; Transportation Conformity: Idaho

AGENCY: Environmental Protection Agency (EPA).

ACTION: Proposed rule.

SUMMARY: The Environmental Protection Agency (EPA) proposes to approve new sections to the Idaho State Implementation Plan (SIP) that contain the transportation conformity rule. These new sections to Rules for the Control of Air Pollution in Idaho (IDAPA) include IDAPA sections 58.01.01.563 through IDAPA 58.01.01.574, and IDAPA 58.01.01.582. They were submitted to EPA as part of a series of revisions to the SIP on December 6, 2000 and February 9, 2001. In the Final Rules Section of this Federal Register, the EPA is approving the State's SIP submittal as a direct final rule without prior proposal because the Agency views this as a noncontroversial submittal amendment and anticipates no adverse comments. A detailed rationale for the approval is set forth in the direct final rule. If no adverse comments are received in response to this action, no further activity is contemplated. If the EPA receives adverse comments, the direct final rule will be withdrawn and all public comments received will be addressed in a subsequent final rule based on this proposed rule. The EPA will not institute a second comment period. Any parties interested in commenting on this action should do so at this time.

DATE: Written comments must be received in writing by May 14, 2001.

ADDRESSES: Send written comments to: Wayne Elson, Environmental Protection Specialist (OAQ-107), Office of Air Quality, at the EPA Regional Office listed below. Copies of the state submittal are available at the following addresses for inspection during normal business hours. The interested persons wanting to examine these documents should make an appointment with the appropriate office at least 24 hours before the visiting day. Environmental Protection Agency, Region 10, Office of Air Quality, 1200 6th Avenue, Seattle, WA 98101. The Idaho Department of Environmental Quality, 1420 North Hilton, Boise Idaho 83706-1255.

FOR FURTHER INFORMATION CONTACT: Mr. Wayne Elson, Office of Air Quality, (OAQ-107), EPA, 1200 6th Avenue, Seattle, WA 98101, (206) 553-1463.

SUPPLEMENTARY INFORMATION: For additional information, see the Direct Final rule which is located in the Rules section of this Federal Register.

Dated: March 9, 2001.
Ron Kreizenbeck,
Acting Regional Administrator, Region 10.

[FR Doc. 01-8930 Filed 4-11-01; 8:45 am]

BILLING CODE 6560-50-U